DEPARTMENT OF THE INTERIOR

Bureau of Reclamation

[DOI-2019-0015; RR83570000, 200R5065C6, RX.59389832.1009676]

Privacy Act of 1974; System of Records

AGENCY: Bureau of Reclamation, Interior.

ACTION: Rescindment of systems of records notices.

SUMMARY: The Department of the Interior is issuing a public notice of its intent to rescind nine Bureau of Reclamation Privacy Act systems of records notices, INTERIOR/WBR-15, Land Settlement Entries; INTERIOR/WBR-17, Lands—Leases, Sales, Rentals, and Transfers; INTERIOR/WBR-19, Mineral Location Entries; INTERIOR/WBR-22, Oil and Gas Applications; INTERIOR/WBR-28, Real Property and Right-of-Way Acquisitions; INTERIOR/WBR-29, Right-of-Way Applications; INTERIOR/WBR-32, Special Use Applications, Licenses, and Permits; INTERIOR/WBR-41, Permits; and INTERIOR/WBR-43, Real Estate Comparable Sales Data Storage, from its existing inventory. In an effort to streamline land and realty program functions, these systems of records notices are being rescinded as the systems have been incorporated into the newly published INTERIOR/Reclamation-14, Land and Realty Program system of records notice.

DATES: These changes take effect on March 20, 2020.

ADDRESSES: You may send comments identified by docket number [DOI-2019-0015] by any of the following methods:

• Federal eRulemaking Portal: http://www.regulations.gov. Follow the instructions for sending comments.

• Email: DOI_Privacy@ios.doi.gov. Include docket number [DOI-2019-0015] in the subject line of the message.

• U.S. Mail or Hand-Delivery: Teri Barnett, Departmental Privacy Officer, U.S. Department of the Interior, 1849 C Street NW, Room 7112, Washington, DC 20240.

Instructions: All submissions received must include the agency name and docket number [DOI-2019-0015]. All comments received will be posted without change to http://www.regulations.gov, including any personal information provided.

Docket: For access to the docket to read background documents or comments received, go to http://www.regulations.gov.

You should be aware your entire comment including your personal identifying information, such as your address, phone number, email address, or any other personal identifying information in your comment, may be made publicly available at any time. While you may request to withhold your personal identifying information from public review, we cannot guarantee we will be able to do so.

FOR FURTHER INFORMATION CONTACT: Regina Magno, Associate Privacy Officer, Bureau of Reclamation, P.O. Box 25007, Denver, CO 80225, privacy@usbr.gov or (303) 445-3326.

SUPPLEMENTARY INFORMATION: Pursuant to the provisions of the Privacy Act of 1974, as amended, the Department of the Interior, Bureau of Reclamation (Reclamation) is rescinding the following systems of records notices from its inventory:

• INTERIOR/WBR-15, Land Settlement Entries;

• INTERIOR/WBR-17, Lands—Leases, Sales, Rentals, and Transfers;

• INTERIOR/WBR-19, Mineral Location Entries;

• INTERIOR/WBR-22, Oil and Gas Applications;

• INTERIOR/WBR-28, Real Property and Right-of-Way Acquisitions;

• INTERIOR/WBR-29, Right-of-Way Applications;

• INTERIOR/WBR-32, Special Use Applications, Licenses, and Permits;

• INTERIOR/WBR-41, Permits; and

• INTERIOR/WBR-43, Real Estate Comparable Sales Data Storage.

During a review of these notices, Reclamation determined that these nine systems contained duplicative content and were managed by one System Manager in the land and realty program. In an effort to streamline land and realty program functions, improve consistency, eliminate duplicative content, and promote transparency, Reclamation modified the INTERIOR/WBR-14, Land Exchange system to incorporate these nine systems of records and published a revised notice, INTERIOR/Reclamation-14, Land and Realty Program, in the Federal Register at 84 FR 51614 (September 30, 2019). The modified system will help Reclamation manage the land and realty program and maintain an inventory of all land, facilities, and waterbodies under Reclamation's jurisdiction. Rescinding the nine systems of records notices will have no adverse impacts on individuals as these records are covered under the INTERIOR/Reclamation-14, Land and Realty Program, system of records notice. This rescindment will also promote the overall streamlining and management of Department of the Interior Privacy Act systems of records. This notice hereby rescinds the nine Reclamation systems of records notices identified below.

SYSTEM NAME AND NUMBER:

1. INTERIOR/WBR-15, Land Settlement Entries.

2. INTERIOR/WBR-17, Lands—Leases, Sales, Rentals, and Transfers.

3. INTERIOR/WBR-19, Mineral Location Entries.

4. INTERIOR/WBR-22, Oil and Gas Applications.

5. INTERIOR/WBR-28, Real Property and Right-of-Way Acquisitions.

6. INTERIOR/WBR-29, Right-of-Way Applications.

7. INTERIOR/WBR-32, Special Use Applications, Licenses, and Permits.

8. INTERIOR/WBR-41, Permits.

9. INTERIOR/WBR-43, Real Estate Comparable Sales Data Storage.

HISTORY:

1. INTERIOR/WBR-15, Land Settlement Entries, 64 FR 29876 (June 3, 1999); modification published at 73 FR 20949 (April 17, 2008).

2. INTERIOR/WBR-17, Lands—Leases, Sales, Rentals, and Transfers, 64 FR 29876 (June 3, 1999); modification published at 73 FR 20949 (April 17, 2008).

3. INTERIOR/WBR-19, Mineral Location Entries, 64 FR 29876 (June 3, 1999); modification published at 73 FR 20949 (April 17, 2008).

4. INTERIOR/WBR-22, Oil and Gas Applications, 64 FR 29876 (June 3, 1999); modification published at 73 FR 20949 (April 17, 2008).

5. INTERIOR/WBR-28, Real Property and Right-of-Way Acquisitions, 64 FR 29876 (June 3, 1999); modification published at 73 FR 20949 (April 17, 2008).

6. INTERIOR/WBR-29, Right-of-Way Applications, 64 FR 29876 (June 3, 1999); modification published at 73 FR 20949 (April 17, 2008).

7. INTERIOR/WBR-32, Special Use Applications, Licenses, and Permits, 64 FR 29876 (June 3, 1999); modification published at 73 FR 20949 (April 17, 2008).

8. INTERIOR/WBR-41, Permits, 64 FR 29876 (June 3, 1999); modification published at 73 FR 20949 (April 17, 2008).

9. INTERIOR/WBR-43, Real Estate Comparable Sales Data Storage, 64 FR 33504 (June 23, 1999); modification published at 73 FR 20949 (April 17, 2008).

Teri Barnett,
Departmental Privacy Officer, Department of the Interior.

[FR Doc. 2020-05920 Filed 3-19-20; 8:45 am]

BILLING CODE 4332-90-P